DEPARTMENT OF HEALTH AND HUMAN SERVICES

Centers for Disease Control and Prevention

[Program Announcement 01082]

School Health Programs; Notice of Availability of Funds

A. Purpose

The Centers for Disease Control and Prevention (CDC) announces the availability of fiscal year (FY) 2001 funds for grant programs entitled “School Health Programs”. This program addresses “Healthy People 2010,” focus areas of Access to Quality Health Care, Educational and Community-Based Programs, and Health Communication.

The purpose of the program is to establish and strengthen school programs to prevent serious health problems among youth.

B. Eligible Applicants

Assistance will be provided only to the organizations listed below. No other applications are solicited. The Conference Report H.R. 4577, Consolidated Appropriations Act, 2001, specified these funds for the organizations listed below.

1. Loyola University of Chicago in collaboration with Proviso East High School, Maywood, Illinois, and the Cook County Board of Health to improve the delivery of on-site primary care, preventive care and health outreach to low-income parents and students in the community. ($135,980).

2. Forum Health of Youngstown, Ohio, for a pediatric/adolescent asthma school program and an adult Diabetes preventive care assessment program. ($879,782).

3. Cross Roads Foundation, for a pilot project to sponsor single mothers self-help groups to improve parenting skills. ($8,740).

Note: Title 2 of the United States Code, Chapter 26, Section 1611 states that an organization described in section 501(c)(4) of the Internal Revenue Code of 1986 that engages in lobbying activities is not eligible to receive Federal funds constituting an award, grant, cooperative agreement, contract, loan or any other form.

C. Availability of Funds

Approximately $1,024,502 is available in FY 2001 to fund three awards. It is expected that the award will begin on or about July 15, 2001, and will be made for a 12-month budget period within a one year project period. Funding estimates may change.

D. Where To Obtain Additional Information

This and other CDC announcements can be found on the CDC home page Internet address http://www.cdc.gov. Click on Funding then Grants and Cooperative Agreements.

To obtain business management technical assistance contact: Cynthia Collins, Grants Management Specialist, Grants Management Branch, Procurement and Grants Office, Program Announcement 01082, Centers for Disease Control and Prevention (CDC), 2920 Brandywine Road, Room 3000, MS E-18, Atlanta, GA 30341-4146, Telephone: (770) 488-2757, Email Address: coc9@cdc.gov.

For program technical assistance, contact: Holly Conner, Division of Adolescent and School Health, National Center for Chronic Disease Prevention and Health Promotion (NCCDPHP), 4770 Buford Highway, NE, MS K-31, Atlanta, Georgia 30341, Telephone: (770) 488-3195, E-Mail Address: hcc3@cdc.gov.

Dated: May 8, 2001.
John L. Williams,
Director, Procurement and Grants Office, Centers for Disease Control and Prevention (CDC).

[FR Doc. 01-11999 Filed 5-11-01; 8:45 am]

BILLING CODE 4163-18-P